DEPARTMENT OF THE TREASURY

Fiscal Service

Surety Companies Acceptable on Federal Bonds: Amendment—Evergreen National Indemnity Company

AGENCY: Financial Management Service, Fiscal Service, Department of the Treasury.

ACTION: Notice.

SUMMARY: This is Supplement No. 5 to the Treasury Department Circular 570, 2011 Revision, published July 1, 2011, at 76 FR 38892.

FOR FURTHER INFORMATION CONTACT: Surety Bond Branch at (202) 874-6850.

SUPPLEMENTARY INFORMATION: The underwriting limitation for Evergreen National Indemnity Company (NAIC #12750), which was listed in the Treasury Department Circular 570, published on July 1, 2011, is hereby amended to read $3,220,000.

Federal bond-approving officers should annotate their reference copies of the Treasury Department Circular 570 (“Circular”), 2011 Revision, to reflect this amendment.

The Circular may be viewed and downloaded through the Internet at www.fms.treas.gov/c570.

Questions concerning this notice may be directed to the U.S. Department of the Treasury, Financial Management Service, Financial Accounting and Services Division, Surety Bond Branch, 3700 East-West Highway, Room 6F01, Hyattsville, MD 20782.

Dated: December 20, 2011.
Laura Carrico,
Director, Financial Accounting and Services Division.

[FR Doc. 2011-33738 Filed 1-4-12; 8:45 am]

BILLING CODE 4810-35-M